DEPARTMENT OF LABOR

Employment and Training Administration

[TA-W-56,170]

Broyhill Furniture Industries, Inc., Pacemaker Furniture Company; Lenoir, NC; Amended Certification Regarding Eligibility To Apply for Worker Adjustment Assistance and Alternative Trade Adjustment Assistance

In accordance with section 223 of the Trade Act of 1974 (19 U.S.C. 2273), the Department of Labor issued a Certification of Eligibility to Apply for Worker Adjustment Assistance on December 22, 2004, applicable to workers of Broyhill Furniture Industries, Inc., Pacemaker Furniture Company, Lenoir, North Carolina. Carolina. The workers are engaged in the production of case goods (wooden) furniture used in bedrooms, dining rooms and living rooms. The notice was published in the Federal Register on January 4, 2005 (70 FR 3391).

New information provided by the petitioners indicated that their intention was to apply for all available Trade Act benefits at the time of the filing. Therefore, the Department has made a decision to investigate further to determine if the workers are eligible to apply for Alternative Trade Adjustment Assistance.

The investigation revealed that a significant number of workers of the subject firm are age 50 or over, workers have skills that are not easily transferable, and conditions in the industry are adverse.

Review of this information shows that all eligibility criteria under section 246 of the Trade Act of 1974 (26 U.S.C. 2813), as amended have been met for workers at the subject firm.

Accordingly, the Department is amending the certification to reflect its finding.

The amended notice applicable to TA-W-56,170 is hereby issued as follows:

“All workers of Broyhill Furniture Industries, Inc., Pacemaker Furniture Company, Lenoir, North Carolina, who became totally or partially separated from employment on or after December 1, 2003, through December 22, 2006, are eligible to apply for adjustment assistance under section 223 of the Trade Act of 1974 and are also eligible to apply for Alternative Trade Adjustment Assistance under section 246 of the Trade Act of 1974.”

Signed at Washington, DC this 14th day of April 2006.
Elliott S. Kushner,
Certifying Officer, Division of Trade Adjustment Assistance.

[FR Doc. E6-6401 Filed 4-27-06; 8:45 am]

BILLING CODE 4510-30-P